DEPARTMENT OF STATE

[Public Notice 5371]

30-Day Notice of Proposed Information Collection: DS-4096 and SV-2005-0011, Reconstruction and Stabilization Volunteer Application and Evaluation, OMB Control Number 1405-XXXX

ACTION: Notice of request for public comment and submission to OMB of proposed collection of information.

SUMMARY: The Department of State has submitted the following information collection request to the Office of Management and Budget (OMB) for approval in accordance with the Paperwork Reduction Act of 1995.

Title of Information Collection: Reconstruction and Stabilization Volunteer Application and Evaluation.

OMB Control Number: 1405-XXXX.

Type of Request: New Collection.

Originating Office: Office of the Coordinator for Reconstruction & Stabilization S/CRS.

Form Number: DS-4096 and SV-2005-0011.

Respondents: Civilians & USG Employees who have past experience in Reconstruction & Stabilization Activities and/or wish to volunteer for additional R & S deployments.

Estimated Number of Respondents: 2400 per year.

Estimated Number of Responses: 2400 per year.

Average Hours Per Response: 30 minutes.

Total Estimated Burden: 1200 Hours.

Frequency: On Occasion.

Obligation to Respond: Voluntary.

DATES: Submit comments to the Office of Management and Budget (OMB) for up to 30 days from April 11, 2006.

ADDRESSES: Direct comments and questions to Alex Hunt, the Department of State Desk Officer in the Office of Information and Regulatory Affairs at the Office of Management and Budget (OMB), who may be reached at (202) 395-7860. You may submit comments by any of the following methods:

• E-mail: ahunt@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to James Stansell, U.S. Department of State, Suite 7100, 2121 Virginia Ave., NW., Washington, DC 20520 who may be reached on (202) 663-0850 Or StansellJW@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The information collected is in keeping with the Department's responsibility to coordinate U.S. Government planning, and institutionalize U.S. capacity, to help stabilize and reconstruct societies in transition from conflict or civil strife so they can reach a sustainable path toward peace, democracy and a market economy. The evaluation will be conducted in order to learn from the experiences of those who have been involved in reconstruction and stabilization activities. The application will be used to solicit volunteers who are willing to participate in future operations.

Methodology

Respondents can access both information collection instruments via the S/CRS Web site (http://www.crs.state.gov), and will fill them out and submit them electronically.

Dated: March 21, 2006.
Marcia K. Wong,
Principal Deputy Coordinator, Office of the Coordinator for Reconstruction & Stabilization, Department of State.
Dated: March 20, 2006.
Christopher Hoh,
Director of Response Strategy & Resource Management, Office of the Coordinator for Reconstruction & Stabilization, Department of State.

[FR Doc. E6-5285 Filed 4-10-06; 8:45 am]

BILLING CODE 4710-10-P